FEDERAL MARITIME COMMISSION

Ocean Transportation Intermediary License; Reissuance of License

Notice is hereby given that the following Ocean Transportation Intermediary licenses have been reissued by the Federal Maritime Commission pursuant to section 19 of the Shipping Act of 1984, as amended by OSRA 1998 (46 U.S.C. app. 1718) and the regulations of the Commission pertaining to the licensing of Ocean Transportation Intermediaries, 46 CFR part 515.

License No., Name/Address, and Date Reissued

16363N—Capitol Transportation, Inc., P.O. Box 363008, San Juan, PR 00936-1361—May 14, 2000

1417F—Interconex Transport, International, Inc., 50 Main Street, 11th Floor, White Plains, NY 10606—May 27, 2000

206F—Marine Forwarding Company, Incorporated, 90 West Street, New York, NY 10006—April 27, 2000

4279F—SR International Logistics, LLC d/b/a High Country Maritime, 5310 Ward Road, Suite G-05, Arvada, CO 80002—July 7, 2000

Sandra L. Kusumoto,
Director, Bureau of Consumer Complaints and Licensing.

[FR Doc. 00-23007 Filed 9-6-00; 8:45 am]

BILLING CODE 6730-01-P